DEPARTMENT OF HOMELAND SECURITY

Coast Guard

33 CFR Part 165

[Docket Number USCG-2018-0648]

Regulated Navigation Area; Savannah River, Georgia

AGENCY: Coast Guard, DHS.

ACTION: Notice of public meeting; request for comments.

SUMMARY: The Coast Guard announces a public meeting to receive comments on a proposal to revise a rule entitled “Regulated Navigation Area; Savannah River, Georgia”, which was published in the Federal Register on September 10, 2007 (72 FR 51555). The purpose of this public meeting is to determine the need to revise the regulated navigation area to address changes at the facility.

DATES: A public meeting will be held on Wednesday, July 25, 2018 from 10 a.m. to 12 p.m. to provide an opportunity for oral comments. Written comments and related material may also be submitted to Coast Guard personnel specified at that meeting. Comments and related material must be received by the Coast Guard on or before August 15, 2018.

ADDRESSES: The public meeting will be held at the Juliette Gordon Low Federal Building, 100 W Oglethorpe Avenue, First Floor, Marine Safety Unit Savannah Training Room, Savannah, GA 31401, telephone 912-652-4353. A valid government-issued photo identification will be required for entrance to the building, and all visitors are subject to security screenings.

This meeting is open to the public. Seating is limited, so please RSVP as soon as possible, but no later than July 15, 2018. Please fill out the RSVP form using the following link https://einvitations.afit.edu/inv/anim.cfm?i=407259&k=0661450B7E5E.

You may submit written comments online by searching docket number USCG-2018-0648 using the Federal eRulemaking Portal at http://www.regulations.gov.

FOR FURTHER INFORMATION CONTACT: If you have questions concerning the meeting or the proposed rule, please call or email LT Joseph Palmquist, Coast Guard; telephone 912-652-4353 ext. 221, email joseph.b.palmquist@uscg.mil.

SUPPLEMENTARY INFORMATION:

I. Background and Purpose

We are announcing a public meeting to receive comments regarding the potential revision of the rule titled “Regulated Navigation Area; Savannah River, Georgia” that was published in the Federal Register on September 10, 2007 (72 FR 51555). That rule established a regulated navigation area around the Southern LNG facility on the Savannah River. Since the previous rule has been published, there have been changes both to the facility layout and to the types of vessels that make calls to the facility. The purpose of this public meeting is to determine the need to revise the regulated navigation area to address changes at the facility. We have received multiple requests and have concluded that a public meeting would aid in determining whether to propose a rulemaking. Therefore, we are publishing this notice.

You may view the current rule, 33 CFR 165.756, by going to http://www.ecfr.gov. Once there, click on “simple search”, insert “33” in the title number search box and “165.756” in the “search for” search box and click “submit search”. You may view comments submitted thus far by going to http://www.regulations.gov. Once there, insert “USCG-2018-0648” in the “Keyword” box and click “Search”.

We encourage you to participate by submitting comments either orally at the meeting or in writing. If you bring written comments to the meeting, you may submit them to Coast Guard personnel specified at the meeting to receive written comments. These comments will be submitted to our online public docket. All comments received will be posted without change to http://www.regulations.gov and will include any personal information you have provided.

Comments submitted after the meeting must reach the Coast Guard on or before August 15, 2018. We encourage you to submit comments through the Federal eRulemaking Portal at http://www.regulations.gov. If your material cannot be submitted using http://www.regulations.gov, contact the person in the FOR FURTHER INFORMATION CONTACT section of this document for alternate instructions.

Anyone can search the electronic form of comments received into any of our dockets by the name of the individual submitting the comment (or signing the comment, if submitted on behalf of an association, business, labor union, etc.). You may review a Privacy Act notice regarding our public dockets in the March 24, 2005, issue of the Federal Register (70 FR 15086).

II. Information on Service for Individuals With Disabilities

For information on facilities or services for individuals with disabilities or to request special assistance at the public meeting, contact LT Joseph Palmquist at the telephone number or email address indicated under the FOR FURTHER INFORMATION CONTACT section of this notice.

III. Public Meeting

The Coast Guard will hold a public meeting to receive comments to potentially revise the rule titled “Regulated Navigation Area; Savannah River, Georgia” that was published in the Federal Register on September 10, 2007 (72 FR 51555). The meeting will take place on July 25, 2018 from 10 a.m. to 12 p.m. at Juliette Gordon Low Federal Building, 100 W Oglethorpe Avenue, First Floor, Marine Safety Unit Savannah Training Room, Savannah, GA 31401, telephone 912-652-4353. Please note that due to building security requirements, a valid government-issued photo identification will be required for entrance into the building. All visitors are subject to security screenings. There is no parking at the building; there are various parking garages that are within walking distance to the building.

Dated: June 28, 2018.
N.C. Witt,
Commander, U.S. Coast Guard Captain of the Port Savannah.

[FR Doc. 2018-14356 Filed 7-3-18; 8:45 am]

BILLING CODE 9110-04-P